NATIONAL SCIENCE FOUNDATION

Advisory Committee for Computer and Information Science and Engineering; Notice of Meeting

In accordance with the Federal Advisory Committee Act (Pub. L. 92-463, as amended), the National Science Foundation (NSF) announces the following meeting:

Name: Advisory Committee for Computer and Information Science and Engineering (CISE) (1115).

Date/Time: December 7, 2016; 12:30 p.m. to 5:30 p.m., December 8, 2016; 8:30 a.m. to 12:30 p.m.

Place: National Science Foundation, 4201 Wilson Boulevard, Suite 1235, Arlington, Virginia 22230.

Type of Meeting: Open.

Contact Person: Brenda Williams, National Science Foundation, 4201 Wilson Boulevard, Suite 1105, Arlington, Virginia 22230; 703-292-8900.

Purpose of Meeting: To advise NSF on the impact of its policies, programs and activities on the CISE community. To provide advice to the Assistant Director for CISE on issues related to long-range planning, and to form ad hoc subcommittees and working groups to carry out needed studies and tasks.

Agenda:

Welcome and CISE updates

Program updates for CISE divisions

Presentation and discussion of the CISE AC data science report

NSF Big Ideas discussion

Closing remarks and wrap-up

Dated: November 10, 2016.
Suzanne Plimpton,
Acting Committee Management Officer.

[FR Doc. 2016-27513 Filed 11-15-16; 8:45 am]

BILLING CODE 7555-01-P